ENVIRONMENTAL PROTECTION AGENCY

40 CFR Parts 52 and 70

[EPA-R07-OAR-2013-0765; FRL-9905-65-Region-7]

Approval and Promulgation of Implementation Plans; State of Kansas; Annual Emissions Fee

AGENCY: Environmental Protection Agency (EPA).

ACTION: Proposed rule.

SUMMARY: The Environmental Protection Agency (EPA) is proposing to approve the State Implementation Plan (SIP) and Operating Permits Program revisions submitted by the state of Kansas which align the state's rules entitled “Annual Emissions Fee” with the Federal Air Emissions Reporting Requirements Rule (AERR).

DATES: Comments on this proposed action must be received in writing by February 26, 2014.

ADDRESSES: Submit your comments, identified by Docket ID No. EPA-R07-OAR-2013-0765, by mail to Lachala Kemp, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Lachala Kemp at (913) 551-7214, or by email at kemp.lachala@epa.gov.

SUPPLEMENTARY INFORMATION: In the final rules section of the Federal Register, EPA is approving the state's SIP and Operating Permits Program revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: January 8, 2014.
Karl Brooks,
Regional Administrator, Region 7.

[FR Doc. 2014-01210 Filed 1-24-14; 8:45 am]

BILLING CODE 6560-50-P